Title 3—

The President

Proclamation 7770 of April 9, 2004

National Former Prisoner of War Recognition Day, 2004

By the President of the United States of America

A Proclamation

Americans look to our veterans as examples of honor and patriotism. These loyal citizens have risked capture, imprisonment, and their lives to protect our homeland and advance freedom abroad. As we observe National Former Prisoner of War Recognition Day, we honor brave Americans who have demonstrated extraordinary courage in the face of hardship and terror.

Today, nine out of ten former prisoners of war are veterans of World War II. These Americans helped to liberate millions and defeat tyranny around the world, and survived unspeakable horrors for the cause of freedom. From enduring hard labor in German and Japanese POW camps to the torturous Bataan Death March, these proud patriots showed strength of character and incredible resolve in captivity. Their devotion to duty and love of country stand as a measure of service few others will attain.

America will never forget these quiet heroes and all of our former prisoners of war who suffered adversity in Korea, Vietnam, the Persian Gulf, Somalia, Kosovo, Iraq, and other conflicts. Our Nation is grateful to our former prisoners of war for their sacrifice to help protect the democratic ideals that make our country strong. Because of the dedication of these men and women in uniform, people in our own country and in lands far away can live in freedom. These citizens inspire us, and we will always remember their service for liberty's blessings.

NOW, THEREFORE, I, GEORGE W. BUSH, President of the United States of America, by virtue of the authority vested in me by the Constitution and laws of the United States, do hereby proclaim April 9, 2004, as National Former Prisoner of War Recognition Day. I call upon all Americans to join me in remembering all former American prisoners of war who suffered the hardships of enemy captivity. I also call upon Federal, State, and local government officials and private organizations to observe this day with appropriate ceremonies and activities.

IN WITNESS WHEREOF, I have hereunto set my hand this ninth day of April, in the year of our Lord two thousand four, and of the Independence of the United States of America the two hundred and twenty-eighth.

B

[FR Doc. 04-8568

Filed 4-12-04; 11:31 am]

Billing code 3195-01-P